DEPARTMENT OF AGRICULTURE

Submission for OMB Review; Comment Request

July 30, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by September 3, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Land Leasing Survey in Oklahoma.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of agricultural operations in Oklahoma. Selected farmers will be asked to provide data on rent & acreage as well as form of the lease agreement for operations with the following lease agreements: (1) Cash rent for selected crops, (2) share rent, (3) pasture leases, winter grazing, and recreational leases. General authority for these data collection activities is granted under U.S.C. Title 7, Section 2204.

Need and Use of the Information: Oklahoma State University, as well as many farmers and ranchers in Oklahoma, have been interested in land rental rates for agricultural operations in greater detail than what is provided in the Cash Rents and Leases Survey used to satisfy the requirement originally specified in the 2008 Farm Bill and conducted under Office of Management and Budget approval number 0535-0002.

To assist producers with this data need, the Oklahoma State University, Department of Agricultural Economics (OSU-DAE), has been collecting and publishing statistical estimates biennially for more than 30 years—before USDA-NASS was tasked with the Cash Rents County Estimates. The OSU-DAE obtained statistics to assist producers in making sound rental agreements. Due to the diverse nature of the state, OSU-DAE felt it necessary to provide more descriptive land breakouts such as pasture estimates into native pasture and improved pasture due to large price differences and input costs associated with each type of pasture.

A recent data request highlighted this limit: A data user (landlord) was trying to re-negotiate the rental rate with their lessee on a large amount of Bermuda grass pastureland. They were given the pasture rate from the USDA-NASS 2017 Cash Rents Survey for the county ($10/ac), district ($12/ac), and the State ($13/ac). The data user was able to find the OSU-DAE pasture rates for 2016/2017 for Bermuda (Improved Pasture) in his Region ($24.55) and at the State level ($22.79). The data user would have lost $12 to $14/per acre if used only the USDA-NASS Cash Rents Survey data alone.

Description of Respondents: Farmers and ranchers in Oklahoma.

Number of Respondents: 2,700.

Frequency of Responses: Reporting: Once a year.

Total Burden Hours: 1,022.

Ruth Brown,
Departmental Information Collection Clearance Officer.

[FR Doc. 2020-16960 Filed 8-3-20; 8:45 am]

BILLING CODE 3410-20-P